INTERNATIONAL TRADE COMMISSION

[Investigation No. 337-TA-1233]

Certain Active Optical Cables and Products Containing the Same; Commission Decision Not To Review an Initial Determination Granting an Unopposed Motion for Termination of the Investigation Based on Withdrawal of the Complaint

AGENCY: U.S. International Trade Commission.

ACTION: Notice.

SUMMARY: Notice is hereby given that the U.S. International Trade Commission has determined not to review an initial determination (“ID”) (Order No. 11) of the presiding administrative law judge (“ALJ”). The ID grants an unopposed motion for termination of the investigation based on the withdrawal of the complaint. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On December 4, 2020, the Commission instituted this investigation under section 337 of the Tariff Act of 1930, as amended, 19 U.S.C. 1337 (“section 337”), based on a complaint filed by Cosemi Technologies, Inc. of Irvine, California (“Complainant”). See 85 FR 78361-62 (Dec. 4, 2020). The complaint, as supplemented, alleges a violation of section 337 based upon the importation into the United States, the sale for importation, and the sale within the United States after importation of certain active optical cables and products containing the same by reason of infringement of certain claims of U.S. Patent Nos. 8,948,197; 9,641,250; 9,971,115; 9,979,479. See id. The notice of investigation names the following respondents: EverPro Technologies Company Ltd. of Wuhan, China; Fibbr Technologies of Wuhan, China; Logitech Inc. of Newark, California; and Facebook Technologies, LLC of Menlo Park, California (collectively, “Respondents”). See id. The Office of Unfair Import Investigations is not a party to the investigation. See id.

On August 2, 2021, Complainant filed an unopposed motion for termination of the investigation based on the withdrawal of the complaint. On August 3, 2021, Respondents filed a response stating that they do not oppose Complainant's motion.

On August 6, 2021, the ALJ issued the subject ID (Order No. 11) granting the motion. In accordance with Commission Rule 210.21(a)(1), 19 CFR 210.21(a)(1), the ID notes that Complainant represents that “there are no other agreements, written or oral, express or implied, between the[ ] parties concerning the subject matter of this Investigation.” See ID at 3. In addition, the ID finds “no extraordinary circumstances that warrant denying the motion.” See id. Thus, the ID terminates the investigation in its entirety and stays the procedural schedule pending Commission review.

No petition for review of the subject ID was filed.

The Commission has determined not to review the subject ID. The investigation is terminated.

The Commission's vote for this determination took place on August 18, 2021.

The authority for the Commission's determination is contained in section 337 of the Tariff Act of 1930, as amended (19 U.S.C. 1337), and in part 210 of the Commission's Rules of Practice and Procedure (19 CFR part 210).

By order of the Commission.
Issued: August 18, 2021.
Lisa Barton,
Secretary to the Commission.

[FR Doc. 2021-18130 Filed 8-23-21; 8:45 am]

BILLING CODE 7020-02-P